DEPARTMENT OF ENERGY

Federal Energy Regulatory Commission

Combined Notice of Filings #1

Take notice that the Commission received the following electric rate filings:

Docket Numbers: ER13-1876-001.

Applicants: BP Energy Company.

Description: Amendment to Request for Category 1 Status, Request for Waiver of TMP Update to be effective 7/2/2013.

Filed Date: 8/1/13.

Accession Number: 20130801-5243.

Comments Due: 5 p.m. ET 8/22/13.

Docket Numbers: ER13-2042-001.

Applicants: Southwest Power Pool, Inc.

Description: 1886R2 Substitute Westar Energy, Inc. NITSA NOA to be effective 6/27/2013.

Filed Date: 8/1/13.

Accession Number: 20130801-5235.

Comments Due: 5 p.m. ET 8/22/13.

Docket Numbers: ER13-2087-000.

Applicants: Arizona Public Service Company.

Description: APS and Western Kofa Capacitor Bank Project Interim AG, Rate Schedule No. 268 to be effective 10/1/2013.

Filed Date: 8/1/13.

Accession Number: 20130801-5143.

Comments Due: 5 p.m. ET 8/22/13.

Docket Numbers: ER13-2088-000.

Applicants: Duke Energy Carolinas, LLC.

Description: Haywood EMC RPPA (2013) to be effective 7/2/2012.

Filed Date: 8/1/13.

Accession Number: 20130801-5170.

Comments Due: 5 p.m. ET 8/22/13.

Docket Numbers: ER13-2089-000.

Applicants: Florida Power & Light Company.

Description: FPL Revisions to LCEC Rate Schedule No. 312 to be effective 1/1/2012.

Filed Date: 8/1/13.

Accession Number: 20130801-5176.

Comments Due: 5 p.m. ET 8/22/13.

Docket Numbers: ER13-2090-000.

Applicants: Florida Power & Light Company.

Description: FPL Revisions to LCEC Rate Schedule No. 317 to be effective 1/1/2014.

Filed Date: 8/1/13.

Accession Number: 20130801-5180.

Comments Due: 5 p.m. ET 8/22/13.

Docket Numbers: ER13-2091-000.

Applicants: Southwest Power Pool, Inc.

Description: Revisions to Attachment AE and X—CFTC to be effective 3/1/2014.

Filed Date: 8/1/13.

Accession Number: 20130801-5242.

Comments Due: 5 p.m. ET 8/22/13.

Docket Numbers: ER13-2092-000.

Applicants: Northern States Power Company, a Minnesota corporation

Description: 2013-8-1_GRE-Multi-Pty JPZ Agrmt_304-NSP to be effective 6/1/2013.

Filed Date: 8/1/13.

Accession Number: 20130801-5245.

Comments Due: 5 p.m. ET 8/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2013.
Nathaniel J. Davis, Sr.,
Deputy Secretary.

[FR Doc. 2013-19584 Filed 8-13-13; 8:45 am]

BILLING CODE 6717-01-P